DEPARTMENT OF EDUCATION

Privacy Act of 1974; System of Records—Investigative Files of the Inspector General (18-10-01)

AGENCY: Department of Education.

ACTION: Correction.

SUMMARY: We publish this notice to correct the Investigative Files of the Inspector General (18-10-01) by restoring two items to the purpose clause, correcting the numbering of the routine uses, moving the substance of the computer matching routine use to the general list of routine uses and amending the introduction to the routine uses to include a statement that any of the routine use disclosures may be made on a case-by-case basis or through computer matching if the requirements for computer matching have been met, eliminating language in Disclosure 5, and clarifying the language of the Debarment and Suspension Disclosure. Our regular review of our system notices revealed the need for these clarifications and corrections.

DATES: The corrections in this notice are effective on January 30, 2002.

FOR FURTHER INFORMATION CONTACT: John Tressler, Office of Chief Information Officer, U.S. Department of Education, 400 Maryland Avenue, SW., room 5624 Regional Office Building 3, Washington, DC 20202-4580. Telephone: (202) 708-8900. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Corrections

The following corrections are made in the Notice of New, Amended, Altered and Deleted Systems of Records published in the Federal Register on June 4, 1999 (64 FR 30105):

On pages 30152 and 30153, beginning with the “PURPOSE(S)” section through the end of the “ROUTINE USES OF RECORDS MAINTAINED IN THE SYSTEM, INCLUDING CATEGORIES OF USERS AND THE PURPOSES OF SUCH USES:” section on page 30153, first column, the notice is revised to read as follows:

Purpose(s):

Pursuant to the Inspector General Act, the system is maintained for the purposes of: (1) Conducting and documenting investigations by the Office of Inspector General (OIG) or other investigative agencies regarding Department of Education programs and operations and reporting the results of investigations to other Federal agencies, other public authorities or professional organizations which have the authority to bring criminal prosecutions or civil or administrative actions, or to impose other disciplinary sanctions; (2) documenting the outcome of OIG investigations; (3) maintaining a record of the activities that were the subject of investigations; (4) reporting investigative findings to other Department of Education components for their use in operating and evaluating their programs or operations, and in the imposition of civil or administrative sanctions; (5) maintaining a record of complaints and allegations received relative to Department of Education programs and operations and documenting the outcome of OIG reviews of such complaints and allegations; (6) coordinating relationships with other Federal agencies, State and local governmental agencies, and nongovernmental entities in matters relating to the statutory responsibilities of the OIG; and (7) acting as a repository and source for information necessary to fulfill the reporting requirements of the Inspector General Act, 5 U.S.C. Appendix 3, 5.

Routine Uses of Records Maintained in the System, Including Categories of Users and the Purposes of Such Uses:

Information contained in a record in this system of records may be disclosed under the routine uses listed in this system of records without the consent of the individual if the disclosure is compatible with the purposes for which the record was collected. These disclosures may be made on a case-by-case basis, or if the requirements of the Computer Matching and Privacy Protection Act have been met under a computer matching agreement.

(1) Disclosure for Use by Other Law Enforcement Agencies. Information from this system of records may be disclosed as a routine use to any Federal, State, local, or foreign agency or other public authority responsible for enforcing, investigating, or prosecuting violations of administrative, civil, or criminal law or regulation where that information is relevant to any enforcement, regulatory, investigative, or prosecutorial responsibility of the receiving entity.

(2) Disclosure to Public and Private Entities to Obtain Information Relevant to Department of Education Functions and Duties. Information from this system of records may be disclosed as a routine use to public or private sources to the extent necessary to obtain information from those sources relevant to a Department investigation, audit, inspection or other inquiry.

(3) Disclosure for Use in Employment, Employee Benefit, Security Clearance, and Contracting Decisions.

(a) For Decisions by the Department. Information from this system of records may be disclosed as a routine use to a Federal, State, local, or foreign agency maintaining civil, criminal or other relevant enforcement or other pertinent records, or to another public authority or professional organization, if necessary to obtain information relevant to a Department decision concerning the hiring or retention of an employee or other personnel action, the issuance or retention of a security clearance, the letting of a contract, or the issuance or retention of a license, grant, or other benefit.

(b) For Decisions by Other Public Agencies and Professional Organizations. Information from this system of records may be disclosed as a routine use to a Federal, State, local, or foreign agency or other public authority or professional organization, in connection with the hiring or retention of an employee or other personnel action, the issuance or retention of a security clearance, the letting of a contract, or the issuance or retention of a license, grant or other benefit.

(4) Disclosure to Public and Private Sources in Connection with the Higher Education Act of 1965, as Amended (“HEA”). Information from this system of records may be disclosed as a routine use to any accrediting agency which is or was recognized by the Secretary of Education pursuant to the HEA; to any guaranty agency which is or was a party to an agreement with the Secretary of Education pursuant to the HEA; or to any agency which is or was charged with licensing or legally authorizing the operation of any educational institution or school which was eligible, is currently eligible, or may become eligible to participate in any program of Federal student assistance authorized by the HEA.

(5) Litigation Disclosure.

(a) Disclosure to the Department of Justice. If the disclosure of certain records to the Department of Justice is relevant and necessary to litigation and is compatible with the purpose for which the records were collected, those records may be disclosed as a routine use to the Department of Justice. Such a disclosure may be made in the event that one of the parties listed below is involved in the litigation, or has an interest in the litigation:

(i) The Department, or any component of the Department;

(ii) Any employee of the Department in his or her official capacity;

(iii) Any employee of the Department in his or her individual capacity where the Department of Justice has agreed to represent the employee or in connection with a request for such representation; or

(iv) The United States, where the Department determines that the litigation is likely to affect the Department or any of its components.

(b) Other Litigation Disclosure. If disclosure of certain records to a court, adjudicative body before which the Department is authorized to appear, individual or entity designated by the Department or otherwise empowered to resolve disputes, counsel or other representative, or potential witness is relevant and necessary to litigation and is compatible with the purpose for which the records were collected, those records may be disclosed as a routine use to the court, adjudicative body, individual or entity, counsel or other representative, or potential witness. Such a disclosure may be made in the event that one of the parties listed below is involved in the litigation, or has an interest in the litigation:

(i) The Department, or any component of the Department;

(ii) Any employee of the Department in his or her official capacity;

(iii) Any employee of the Department in his or her individual capacity where the Department has agreed to represent the employee; or

(iv) The United States, where the Department determines that the litigation is likely to affect the Department or any of its components.

(6) Disclosure to Contractors and Consultants. Information from this system of records may be disclosed as a routine use to the employees of any entity or individual with whom or with which the Department contracts for the purpose of performing any functions or analyses that facilitate or are relevant to an OIG investigation, audit, inspection, or other inquiry. Before entering into such a contract, the Department shall require the contractor to maintain Privacy Act safeguards, as required under 5 U.S.C. 552a(m) with respect to the records in the system.

(7) Debarment and Suspension Disclosure. Information from this system of records may be disclosed as a routine use to another Federal agency considering suspension or debarment action where the information is relevant to the suspension or debarment action. Information may also be disclosed to another agency to gain information in support of the Department's own debarment and suspension actions.

(8) Disclosure to the Department of Justice. Information from this system of records may be disclosed as a routine use to the Department of Justice, to the extent necessary for obtaining its advice on any matter relevant to Department of Education operations.

(9) Congressional Member Disclosure. Information from this system of records may be disclosed to a member of Congress from the record of an individual in response to an inquiry from the member made at the written request of that individual. The member's right to the information is no greater than the right of the individual who requested it.

(10) Benefit Program Disclosure. Records may be disclosed as a routine use to any Federal, State, local or foreign agency, or other public authority, if relevant to the prevention or detection of fraud and abuse in benefit programs administered by any agency or public authority.

(11) Overpayment Disclosure. Records may be disclosed as a routine use to any Federal, State, local or foreign agency, or other public authority, if relevant to the collection of debts and overpayments owed to any agency or public authority.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.access.gpo.gov/nara/index.html

Dated: January 25, 2002.
Craig B. Luigart,
Chief Information Officer.

[FR Doc. 02-2226 Filed 1-29-02; 8:45 am]

BILLING CODE 4000-01-U